DEPARTMENT OF LABOR

Employment and Training Administration

[TA-W-62,340]

Commonwealth Land Title Co., Northern CA Production Center, a Division of LandAmerica Financial Group, Inc., Martinez, California; Notice of Negative Determination Regarding Application for Reconsideration

By application dated November 16, 2007, the petitioner requested administrative reconsideration of the Department's negative determination regarding eligibility to apply for Trade Adjustment Assistance (TAA), applicable to workers and former workers of the subject firm. The denial notice was signed on October 26, 2007 and published in the Federal Register on November 6, 2007 (72 FR 62682).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a mis-interpretation of facts or of the law justified reconsideration of the decision.

The negative TAA determination issued by the Department for workers of Commonwealth Land Title Co., Northern CA Production Center, a division of LandAmerica Financial Group, Inc., Martinez, California was based on the finding that the worker group does not produce an article within the meaning of Section 222 of the Trade Act of 1974. The investigation revealed that workers of the subject firm are engaged in research, data entry, analysis, and writing services. The investigation further revealed that no production of article(s) occurred within the firm or appropriate subdivision within the Commonwealth Land Title Co. and LandAmerica Financial Group, Inc. during the relevant time period.

The petitioner contends that the Department erred in its interpretation of the work performed by the workers of the subject firm. The petitioner states that the Preliminary Title Report cited in the initial determination document is “only a by-product of the process” and that the “real Article is the Title Insurance Policy”. The petitioner further clarifies that the process of issuing this Title Policy involves reviewing of the legal documentation, taxes, easements, etc., which is followed by the Preliminary Title Report, which in its turn, becomes the basis for the Title Insurance Policy.

The Title Insurance Policy and Preliminary Title Reports are documents used by the subject firm as incidentals to the purpose of the services provided by workers of the subject firm. The investigation revealed that workers of Commonwealth Land Title Co., Northern CA Production Center, a division of LandAmerica Financial Group, Inc., Martinez, California are engaged in data entry, faxing and scanning, telephone services, research of the records systems, data analysis, writing various reports, and maintaining company data. These services, as described above, are not considered production of an article within the meaning of Section 222 of the Trade Act. No production took place at the subject facility and the workers did not support production of articles at any affiliated firm in the relevant time period.

The petitioner also alleges that “the Title Examination function has been outsourced to India.”

The allegation of a shift to another country might be relevant if it was determined that workers of the subject firm produced an article. However, the investigation determined that workers of Commonwealth Land Title Co., Northern CA Production Center, a division of LandAmerica Financial Group, Inc., Martinez, California do not produce an article within the meaning of Section 222 of the Trade Act of 1974.

Conclusion

After review of the application and investigative findings, I conclude that there has been no error or misinterpretation of the law or of the facts which would justify reconsideration of the Department of Labor's prior decision. Accordingly, the application is denied.

Signed in Washington, DC., this 28th day of November, 2007.
Linda G. Poole,
Certifying Officer, Division of Trade Adjustment Assistance.

[FR Doc. E7-23796 Filed 12-7-07; 8:45 am]

BILLING CODE 4510-FN-P